DEPARTMENT OF THE INTERIOR

National Park Service

Notice of Inventory Completion: St. Lawrence University, Department of Anthropology, Canton, NY; Correction

AGENCY: National Park Service, Interior.

ACTION: Notice; correction.

Notice is here given in accordance with the Native American Graves Protection and Repatriation Act (NAGPRA), 25 U.S.C. 3003, of the completion of an inventory of human remains in the possession of St. Lawrence University, Department of Anthropology, Canton, NY. The human remains were removed from St. Lawrence County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

This notice corrects the number of tribes that were determined to be culturally affiliated in a Notice of Inventory Completion previously published in the Federal Register (73 FR 50996-50997, August 29, 2008) by adding the Oneida, Cayuga, and Onondaga Indian Nations, in addition to the Mohawk Nation. After publication, St. Lawrence University determined that the Oneida, Mohawk, Cayuga, and Onondaga Nations are all culturally affiliated with the Native American human remains, which are currently in the possession of the Department of Anthropology, St. Lawrence University.

In the Federal Register of August 29, 2008, paragraph numbers 6-10 are corrected by substituting the following:

The region of Gouverneur has been occupied by Native Americans from 10,000 BP up to the historic period and beyond. The St. Lawrence River and its tributaries were continually used as part of Native American hunting and fishing grounds. During the French and Indian War, Native Americans who occupied the Oswegatchie River region (Oswegatchie is a tributary of the St. Lawrence River), which included the Oneida, Mohawk, Cayuga, and Onondaga, were dislocated as a result of the war. Many Native Americans were forced to abandon their settlements, which included the abandonment of La Presentation in 1759. Many Iroquoian families were forced to migrate to present-day St. Regis where they were adopted by the Mohawk. Consultation with tribal representatives of the Mohawks of Akwesasne (which is composed of the Saint Regis Mohawk Tribe, New York; Mohawk Council of Akwesasne; and Mohawk Nation Council of Chiefs) provided additional lines of evidence.

Through ongoing consultation with Native American groups and Lauren French, examination of the human remains, and review of the available literature, officials of St. Lawrence University have determined that the human remains are Native American and most likely share common Iroquoian identity with the Cayuga Nation of New York; Oneida Nation of New York; Oneida Tribe of Indians of Wisconsin; Onondaga Nation of New York; and the Mohawks of Akwesasne (which is composed of the Saint Regis Mohawk Tribe, New York; Mohawk Council of Akwesasne; and Mohawk Nation Council of Chiefs).

Officials of the St. Lawrence University, Department of Anthropology have determined that, pursuant to 25 U.S.C. 3001 (9-10), the human remains described above represents the physical remains of one individual of Native American ancestry. Officials of the St. Lawrence University, Department of Anthropology have determined that, pursuant to 25 U.S.C. 3001 (2), there is a relationship of shared group identity that can be reasonably traced between the Native American human remains and the Cayuga Nation of New York; Oneida Nation of New York; Oneida Tribe of Indians of Wisconsin; Onondaga Nation of New York; and Saint Regis Mohawk Tribe, New York. Lastly, officials of the St. Lawrence University, Department of Anthropology have determined that there is a cultural relationship between the human remains and the Mohawk Council of Akwesasne and Mohawk Nation Council of Chiefs.

Representatives of any other Indian tribe that believes itself to be culturally affiliated with the human remains should contact Dr. Richard A. Gonzalez, Department of Anthropology, St. Lawrence University, Canton, NY 13617, telephone (315) 229-5745, before September 2, 2009. Repatriation of the human remains to the Cayuga Nation of New York; Oneida Nation of New York; Oneida Tribe of Indians of Wisconsin; Onondaga Nation of New York; and Saint Regis Mohawk Tribe, New York (which also represents the Mohawk Council of Akwesasne and the Mohawk Nation Council of Chiefs), may proceed after that date if no additional claimants come forward.

St. Lawrence University is responsible for notifying the Cayuga Nation of New York; Oneida Nation of New York; Oneida Tribe of Indians of Wisconsin; Onondaga Nation of New York; Saint Regis Mohawk Tribe, New York; Mohawk Council of Akwesasne; and Mohawk Nation Council of Chiefs that this notice has been published.

Dated: July 14, 2009.
Sherry Hutt,
Manager, National NAGPRA Program.

[FR Doc. E9-17666 Filed 7-31-09; 8:45 am]

BILLING CODE 4312-50-M